FEDERAL COMMUNICATIONS COMMISSION

47 CFR Part 73

[DA 07-2650; MB Docket No. 05-282; RM-11229; RM-11333; RM-11337]

Radio Broadcasting Services; Anderson, SC; Aragon, GA; Chattanooga, Decatur, Harrison and Lynchburg, TN; Ringgold and Rockmart, GA; Spring City and Wartrace, TN

AGENCY: Federal Communications Commission.

ACTION: Final rule.

SUMMARY: The Media Bureau, at the request of Woman's World Broadcasting, Inc., deletes vacant Channel 296A at Lynchburg, Tennessee, from the FM Table of Allotments, and allots Channel 230A at Lynchburg, Tennessee, as a vacant channel in the FM Table of Allotments. The purpose of this channel substitution is to accommodate a change of community for FM Station WTSH, which is moving from Rockmart to Aragon, Georgia. The reference coordinates for Channel 230A at Lynchburg, Tennessee, are 35-21-58 NL and 86-17-18 WL, at a site 12.1 km (7.5 miles) northeast of Lynchburg. The Media Bureau also dismisses a counterproposal filed by Bart Walker to allot Channel 230A to Wartrace, Tennessee, as a first local aural service. See Supplementary Information.

DATES: This rule is effective October 17, 2007.

ADDRESSES: Secretary, Federal Communications Commission, 445 12th Street, SW., Washington, DC 20554.

FOR FURTHER INFORMATION CONTACT: Deborah A. Dupont, Media Bureau, (202) 418-2180.

SUPPLEMENTARY INFORMATION: This is a synopsis of the Commission's Report and Order, MB Docket No. 05-282, adopted June 13, 2007, and released June 15, 2007. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

Every FM channel change set forth in the Report and Order formerly required rule changes to Section 73.202(b), the FM Table of Allotments. See 70 FR 66329 (November 2, 2005). As a result of changes to the Commission's processing rules, modifications of FM channels for existing stations are no longer listed in Section 73.202(b) and are instead reflected in the Media Bureau's Consolidated Data Base System (CDBS). See Revision of Procedures Governing Amendments to FM Table of Allotments and Changes of Community of License in the Radio Broadcast Services, Report and Order, 21 FCC Rcd 14212 (December 20, 2006). Only the substitution of Channel 230A for vacant Channel 296A at Lynchburg, Tennessee, which involves an amendment to Section 73.202(b), is summarized and published in the Federal Register. Although the Report and Order, as revised, sets forth an effective date of October 8, 2007, the amendment to the FM Table of Allotments and the specified FM license modifications will be effective 30 days after publication of this summary in the Federal Register in compliance with Sections 1.427 and 1.429 of the Commission's rules.

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Tennessee is amended by removing Channel 296A at Lynchburg and by adding Channel 230A at Lynchburg.

Federal Communications Commission.
John A. Karousos,
Assistant Chief, Audio Division, Media Bureau.

[FR Doc. E7-18264 Filed 9-14-07; 8:45 am]

BILLING CODE 6712-01-P